DEPARTMENT OF COMMERCE

National Oceanic and Atmospheric Administration

50 CFR Part 679

[Docket No. 010111009-1009-01; I.D. 122600A]

RIN 0648-AO72

Fisheries of the Exclusive Economic Zone Off Alaska; Emergency Interim Rule to Revise Certain Provisions of the American Fisheries Act; Extension of Expiration Date

AGENCY: National Marine Fisheries Service (NMFS), National Oceanic and Atmospheric Administration (NOAA), Commerce.

ACTION: Extension of an emergency interim rule; request for comments.

SUMMARY: On January 22, 2001, NMFS published an emergency interim rule, effective January 18, 2001, through July 17, 2001, which supersedes and revises certain provisions of the American Fisheries Act (AFA). On May 15, 2001, NMFS published a correction to the emergency interim rule. This action extends this emergency interim rule, as corrected for an additional 180 days, through January 14, 2002, to maintain requirements of the AFA for the 2001 fishing year. The intended effect of this action is to further the socioeconomic objectives of the AFA.

DATES: The expiration date of the emergency interim rule, published on January 22, 2001 (66 FR 7327), and corrected on May 15, 2001 (66 FR 26808), is extended from July 17, 2001, to January 14, 2002.

Comments on this emergency interim rule must be received by August 9, 2001.

ADDRESSES: Comments must be sent to Sue Salveson, Assistant Administrator, Sustainable Fisheries Division, Alaska Region, NMFS, P.O. Box 21668, Juneau, AK 99802, Attn: Lori Gravel, or delivered to Federal Building, Fourth Floor, 709 West 9th Street, Juneau, AK, and marked Attn: Lori Gravel. Comments also may be sent via facsimile (fax) to (907) 586-7465. Comments will not be accepted if sent by e-mail.

FOR FURTHER INFORMATION CONTACT: Gretchen Harrington, 907-586-7228 or gretchen.harrington@noaa.gov.

SUPPLEMENTARY INFORMATION: On October 21, 1998, the President signed into law the AFA (Div. C, Title II, Subtitle II, Public Law No. 105-277, 112 Stat. 2681, 1998), which made profound changes to the Bering Sea and Aleutian Islands management area (BSAI) pollock fishery and, to a lesser extent, to the groundfish and crab fisheries within the exclusive economic zone off Alaska. The major provisions of the AFA were implemented on an interim basis by an emergency rule published January 28, 2000 (65 FR 4520, extended at 65 FR 39107, June 23, 2000). Detailed information on the AFA may be found in the January 2000 emergency interim rule and in the Environmental Assessment/Regulatory Impact Review developed for that emergency interim rule. The Council has recommended Federal fishery management plan amendments to implement the major provisions of the AFA. If approved by NMFS, implementing regulations are expected to be effective by early 2002.

On January 22, 2001, NMFS published an emergency interim rule that implemented management measures to supersede and revise certain provisions of the AFA prior to the start of the Bering Sea pollock fishery (66 FR 7327). The preamble to the emergency interim rule provides a detailed description of the purpose and need for that action and is not repeated here. NMFS received no public comments during the comment period, which expired on February 21, 2001. A correction notice for this emergency interim rule was published on May 15, 2001 (66 FR 26808), which added Prohibitions specific to the AFA that were inadvertently omitted in the emergency interim rule. Extending the emergency interim rule maintains the revisions necessary for the continuation of the pollock fisheries in 2001. This extension makes no changes to the emergency interim rule, as corrected.

The Assistant Administrator for Fisheries, NOAA (AA), has determined that the extension of this emergency interim rule, as corrected, is necessary to respond to an emergency situation and that it is consistent with the Magnuson-Stevens Fishery Conservation and Management Act, the AFA, and other applicable laws.

Dated: June 29, 2001.
William T. Hogarth,
Acting Assistant Administrator for Fisheries, National Marine Fisheries Service.

[FR Doc. 01-17094 Filed 7-9-01; 8:45 am]

BILLING CODE 3510-22-S